COMMODITY FUTURES TRADING COMMISSION

Sunshine Act Meetings

FEDERAL REGISTER CITATION OF PREVIOUS ANNOUNCEMENT: 84 FR 61896, November 14, 2019.

PREVIOUSLY ANNOUNCED TIME AND DATE OF THE MEETING: 10:00 a.m., Thursday, November 21, 2019.

CHANGES IN THE MEETING: The matters to be considered at this meeting now include a registration matter, in addition to the previously announced enforcement matters.

CONTACT PERSON FOR MORE INFORMATION: Christopher Kirkpatrick, 202-418-5964.

Authority: 5 U.S.C. 552b.

Dated: November 18, 2019.
Christopher Kirkpatrick,
Secretary of the Commission.

[FR Doc. 2019-25236 Filed 11-18-19; 11:15 am]

BILLING CODE 6351-01-P